DEPARTMENT OF TRANSPORTATION

Federal Aviation Administration

14 CFR Part 71

[Docket No. FAA-2013-0915; Airspace Docket No. 12-ASO-41]

RIN 2120-AA66

Proposed Modification, Revocation, and Establishment of Area Navigation (RNAV) Routes; Charlotte, NC

AGENCY: Federal Aviation Administration (FAA), DOT.

ACTION: Notice of proposed rulemaking (NPRM).

SUMMARY: This action proposes to establish two RNAV routes; modify three RNAV routes; and remove one RNAV route in the Charlotte, NC, area. The route changes are proposed to support the Charlotte Optimization of Airspace and Procedures in a Metroplex (OAPM) project. The proposed routes, in combination with existing VOR Federal airways, would provide additional routing options through and around the Metroplex airspace.

DATES: Comments must be received on or before February 3, 2014.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2013-0915 and Airspace Docket No. 13-ASO-41 at the beginning of your comments. You may also submit comments through the Internet at http://www.regulations.gov.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2013-0915 and Airspace Docket No. 13-ASO-41) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2013-0915 and Airspace Docket No. 12-AEA-41.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Persons interested in being placed on a mailing list for future NPRM's should contact the FAA's Office of Rulemaking, (202) 267-9677, for a copy of Advisory Circular No. 11-2A, Notice of Proposed Rulemaking Distribution System, which describes the application procedure.

The Proposal

The FAA is proposing an amendment to Title 14, Code of Federal Regulations (14 CFR) part 71 to establish two low-altitude RNAV routes (T-206 and T-214); modify three RNAV routes (T-201, T-202 and T-203); and remove one RNAV route (T-200), in the Charlotte, NC, area.

The following actions are proposed:

T-200: The FAA is proposing to remove T-200 in its entirety. T-200 extends between the Foothills, GA, VORTAC (ODF) and the Florence, SC, VORTAC (FLO). It passes through the RICHE fix at the very south end of the Charlotte Class B airspace area. T-200 is seldom used as it traverses very close to the “final box” for Charlotte/Douglas International Airport (CLT) when CLT is landing to the north. The proposed modification of T-202 (see below) would provide routing through the south end of the CLT Class B airspace area in place of T-200. Aircraft flying from ODF to FLO, and vice versa, would fly direct rather than utilizing the RICHE fix. Therefore, it was determined that realignment of T-200 is impractical.

T-201: T-201 extends between the Columbia, SC, VORTAC (CAE) and the JOTTA, NC, fix. This proposed modification would shorten the length of the route so that it would extend between the MEVAE, SC, waypoint (WP) (near Bethune, SC) at the south end, and the BORTZ, NC, WP (south of the JOTTA fix) at the north end. In addition, the track of the route would be shifted approximately seven nautical miles (NM) to the east of its current position. The shift would move the route to the east of the CLT Class B airspace area where it would pass through the FEGNO, NC, WP instead of the LOCAS, NC, fix (on the eastern boundary of the Class B airspace area). The modified route would segregate low altitude overflight traffic from CLT departure and arrival traffic while keeping the T-201 designator. Waypoints along the route would provide connectivity with RNAV routes T-202, T-206 and T-214 (described below). Also along the route, the TRUEX, SC, WP would serve as an ingress/egress point for the Florence, SC, Terminal Radar Approach Control (TRACON) airspace.

T-202: T-202 now extends between the RICHE, SC, fix and the GANTS, NC, fix. This proposal would extend the route at both ends: northeastward from the GANTS fix to the ZADEL WP (near Asheboro Municipal Airport, NC (HBI); and westward from the RICHE fix to the GURSH WP (near Union County Airport (35A), SC). The modified route would utilize airspace around the south of CLT when CLT is landing and departing to the south. That segment from the RICHE WP to the HUSTN WP would segregate T-202 traffic from CLT departures. Waypoints along the route would provide connectivity to T-201, T-206 and T-214. Additionally, the GANTS fix is located at the boundary of the Charlotte and Greensboro TRACONs airspace. This would minimize the impact on satellite and adjacent airport operations by providing a predictable track for overflight traffic while keeping the T-202 designator.

T-203: T-203 extends between the Columbia, SC, VORTAC (CAE) and the Pulaski, VA, VORTAC (PSK). The FAA proposes to shorten the route by changing the endpoints to the ANDYS, SC, fix (near Winnsboro, SC) at the south end, and the OREAD, NC, WP (10 miles north of Hickory, NC) at the north end. In addition, the track would be shifted slightly to the west of its current position but still transiting through the west side of the CLT Class B airspace area. By routing T-203 via the ROUTH, NC, WP (near Grover, SC), transiting aircraft would be segregated from CLT departure airspace. The modified route would keep the T-203 designator. Waypoints along the route would provide connectivity to T-202, T-206 and T-214.

T-206: T-206 would be established to extend between the ENADE, NC, WP (near Cliffside, NC) and the ZADEL, NC, WP (near Asheboro Regional Airport (HBI), NC). The route would be used to transition aircraft through the north side of the CLT Class B airspace area when CLT is landing and departing to the north. Waypoints along the route would provide connectivity to T-201, T-202, T-203 and T-214. Additionally, the alignment of T-206 through the GOTHS, NC, WP (northwest of the existing MOPED, NC, fix) would deconflict transiting traffic from CLT departures.

T-214: T-214 would be established to extend between the OREAD WP and the ORPEE, NC, WP (north of Troy, NC). This route would allow aircraft to transition north of the CLT Class B airspace, but within the Metroplex area, when CLT is landing and departing to the north. Greensboro TRACON (GSO) radar vectors aircraft that are filed for points northwest of CLT in order to separate them from CLT arrivals that are inbound from the northeast. Once they are clear of the arrivals, GSO then clears the aircraft direct to the Holston Mountain, TN, VORTAC (HMV) to resume their filed routes. T-214 would provide a predictable route to points northwest and west of Charlotte that are deconflicted from the CLT arrival flow.

The routes proposed in this notice would be segregated from the heavily used arrival and departure corridors serving the Charlotte area and would enhance the efficiency of the National Airspace System in the Charlotte, NC, Metroplex area.

RNAV routes are published in paragraph 6011 of FAA Order 7400.9X dated August 7, 2013, and effective September 15, 2013, which is incorporated by reference in 14 CFR 71.1. The RNAV routes listed in this document would be subsequently published in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that would only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as required to preserve the safe and efficient flow of air traffic in the Charlotte, NC, area.

Environmental Review

This proposal will be subject to an environmental analysis in accordance with FAA Order 1050.1E, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, Dated August 7, 2013, and effective September 15, 2013, is amended as follows:

Paragraph 6011—United States Area Navigation Routes

T-200 Foothills, GA to Florence, SC [Removed]
T-201 MEVAE, SC to BORTZ, NC [Amended]
MEVAE, SC | WP | (Lat. 34°25′05″ N., long. 80°22′28″ W.)
TRUEX, SC | WP | (Lat. 34°35′55″ N., long. 80°21′18″ W.)
FEGNO, NC | WP | (Lat. 35°14′49″ N., long. 80°16′39″ W.)
NUROE, NC | WP | (Lat. 35°34′37″ N., long. 80°31′15″ W.)
BORTZ, NC | WP | (Lat. 35°52′56″ N., long. 80°44′56″ W.)
T-202 GURSH, SC to ZADEL, NC [Amended]
GURSH, SC. | WP | (Lat. 34°42′05″ N., long. 81°30′32″ W.)
AWRYT, SC | WP | (Lat. 34°42′00″ N., long. 81°14′52″ W.)
RICHE, SC | FIX | (Lat. 34°41′54″ N., long. 80°59′23″ W.)
HUSTN, NC | FIX | (Lat. 34°53′20″ N., long. 80°34′20″ W.)
FEGNO, NC | WP | (Lat. 35°14′49″ N., long. 80°16′39″ W.)
GANTS, NC | FIX | (Lat. 35°27′11″ N., long. 80°06′16″ W.)
ZADEL, NC. | WP | (Lat. 35°33′47″ N., long. 80°01′47″ W.)
T-203 ANDYS, SC to OREAD, NC [Amended]
ANDYS, SC | FIX | (Lat. 34°22′15″ N., long. 81°08′38″ W.)
AWRYT, SC | WP | (Lat. 34°42′00″ N., long. 81°14′52″ W.)
ROUTH, NC | WP | (Lat. 35°10′38″ N., long. 81°23′59″ W.)
FADOS, NC | WP | (Lat. 35°28′22″ N., long. 81°20′49″ W.)
OREAD, NC | WP | (Lat. 35°52′03″ N., long. 81°16′32″ W.)
T-206 ENADE, NC to ZADEL, NC [New]
ENADE, NC | WP | (Lat. 35°12′08″ N., long. 81°44′41″ W.)
FADOS, NC | WP | (Lat. 35°28′22″ N., long. 81°20′49″ W.)
GOTHS, NC | WP | (Lat. 35°35′17″ N., long. 80°58′25″ W.)
NUROE, NC | WP | (Lat. 35°34′37″ N., long. 80°31′15″ W.)
ZADEL, NC | WP | (Lat. 35°33′47″ N., long. 80°01′47″ W.)
T-214 OREAD, NC to ORPEE, NC [New]
OREAD, NC | WP | (Lat. 35°52′03″ N., long. 81°16′32″ W.)
BORTZ, NC | WP | (Lat. 35°52′56″ N., long. 80°44′56″ W.)
THMSN, NC | WP | (Lat. 35°53′21″ N., long. 80°28′57″ W.)
ZADEL, NC | WP | (Lat. 35°33′47″ N., long. 80°01′47″ W.)
ORPEE, NC | WP | (Lat. 35°27′12″ N., long. 79°52′56″ W.)

Issued in Washington, DC, on December 11, 2013.
Ellen Crum,
Acting Manager, Airspace Policy and Regulations Group.

[FR Doc. 2013-30098 Filed 12-18-13; 8:45 am]

BILLING CODE 4910-13-P